DEPARTMENT OF DEFENSE

GENERAL SERVICES ADMINISTRATION

NATIONAL AERONAUTICS AND SPACE ADMINISTRATION

48 CFR Ch. 1

Semiannual Regulatory Agenda

AGENCY: Department of Defense (DoD), General Services Administration (GSA), and National Aeronautics and Space Administration (NASA).

ACTION: Semiannual regulatory agenda.

SUMMARY: This agenda provides summary descriptions of regulations being developed by the Civilian Agency Acquisition Council and the Defense Acquisition Regulations Council in compliance with Executive Order 12866 “Regulatory Planning and Review.” This agenda is being published to allow interested persons an opportunity to participate in the rulemaking process. The Regulatory Secretariat Division has attempted to list all regulations pending at the time of publication, except for minor and routine or repetitive actions; however, unanticipated requirements may result in the issuance of regulations that are not included in this agenda. There is no legal significance to the omission of an item from this listing. Also, the dates shown for the steps of each action are estimated and are not commitments to act on or by the dates shown.

Published proposed rules may be reviewed in their entirety at the Government's rulemaking website at http://www.regulations.gov.

FOR FURTHER INFORMATION CONTACT: Lois Mandell, Division Director, Regulatory Secretariat Division, 1800 F Street NW, 2nd Floor, Washington, DC 20405-0001, 202-501-4755.

SUPPLEMENTARY INFORMATION: DoD, GSA, and NASA, under their several statutory authorities, jointly issue and maintain the FAR through periodic issuance of changes published in the Federal Register and produced electronically as Federal Acquisition Circulars (FACs).

The electronic version of the FAR, including changes, can be accessed on the FAR website at http://www.acquisition.gov/far.

Dated: March 12, 2021.
William F. Clark,
Director, Office of Government-wide Acquisition Policy, Office of Acquisition Policy, Office of Government-wide Policy.

DOD/GSA/NASA (FAR)—Proposed Rule Stage
Sequence No. | Title | Regulation Identifier No.
240 | Federal Acquisition Regulation (FAR); FAR Case 2017-013, Breaches of Personally Identifiable Information | 9000-AN44
241 | Federal Acquisition Regulation (FAR); FAR Case 2017-016, Controlled Unclassified Information (CUI) | 9000-AN56
242 | Federal Acquisition Regulation (FAR); FAR Case 2018-006; Definition of Subcontract | 9000-AN66
243 | Federal Acquisition Regulation (FAR); FAR Case 2018-012, Rights to Federally Funded Inventions and Licensing of Government-Owned Inventions | 9000-AN71
244 | Federal Acquisition Regulation (FAR); FAR Case 2018-013, Exemption of Commercial and COTS Item Contracts From Certain Laws and Regulations | 9000-AN72
245 | Federal Acquisition Regulation (FAR); FAR Case 2018-014, Increasing Task-Order Level Competition | 9000-AN73
246 | Federal Acquisition Regulation (FAR); FAR Case 2019-007, Update of Historically Underutilized Business Zone Program | 9000-AN90
247 | Federal Acquisition Regulation (FAR); FAR Case 2019-008, Small Business Program Amendments | 9000-AN91
248 | Federal Acquisition Regulation (FAR); FAR Case 2019-015, Improving Consistency Between Procurement & Non-Procurement Procedures on Suspension and Debarment | 9000-AN98
249 | Federal Acquisition Regulation (FAR); FAR Case 2020-005, Explanations to Unsuccessful Offerors on Certain Orders Under Task and Delivery Order Contracts | 9000-AO08
250 | Federal Acquisition Regulation (FAR); FAR Case 2020-007, Accelerated Payments Applicable to Contracts With Certain Small Business Concerns | 9000-AO10
251 | Federal Acquisition Regulation (FAR); FAR Case 2020-008, Prohibition on Criminal History Inquiries by Contractors Prior to Conditional Offer | 9000-AO11
252 | Federal Acquisition Regulation (FAR); FAR Case 2020-010, Small Business Innovation Research and Technology Transfer Programs | 9000-AO12
253 | Federal Acquisition Regulation (FAR); FAR Case 2020-013, Certification of Women-Owned Small Businesses | 9000-AO17
254 | Federal Acquisition Regulation (FAR); FAR Case 2020-016, Rerepresentation of Size and Socioeconomic Status | 9000-AO18
255 | Federal Acquisition Regulation (FAR); FAR Case 2021-001, Increased Efficiencies With Regard to Certified Mail, In-Person Business, Mail, Notarization, Original Documents, Seals, and Signatures | 9000-AO19
256 | Federal Acquisition Regulation (FAR); FAR Case 2021-008, Amendments to the FAR Buy American Act Requirements | 9000-AO22
257 | FAR Acquisition Regulation (FAR); FAR Case 2021-005; Disclosure of Beneficial Owner in Federal Contracting | 9000-AO23
258 | Federal Acquisition Regulation (FAR); FAR Case 2021-006, Prohibition on Requiring Disclosure of Political Contributions | 9000-AO24
259 | Federal Acquisition Regulation (FAR); FAR Case 2021-007, Maximum Award Price for Certain Sole Source Manufacturing Contracts | 9000-AO25

DOD/GSA/NASA (FAR)—Final Rule Stage
Sequence No. | Title | Regulation Identifier No.
260 | Federal Acquisition Regulation: FAR Case 2016-005; Effective Communication Between Government and Industry | 9000-AN29
261 | FAR Acquisition Regulation (FAR); FAR Case 2015-038, Reverse Auction Guidance | 9000-AN31
262 | Federal Acquisition Regulation (FAR); FAR Case 2017-005, Whistleblower Protection for Contractor Employees | 9000-AN32
263 | Federal Acquisition Regulation; FAR Case 2016-002, Applicability of Small Business Regulations Outside the United States | 9000-AN34
264 | Federal Acquisition Regulation (FAR); FAR Case 2016-011, Revision of Limitations on Subcontracting | 9000-AN35
265 | Federal Acquisition Regulation (FAR); FAR Case 2017-014, Use of Acquisition 360 to Encourage Vendor Feedback | 9000-AN43
266 | Federal Acquisition Regulation (FAR); FAR Case 2017-011, Section 508-Based Standards in Information and Communication Technology | 9000-AN46
267 | Federal Regulation Acquisition (FAR); FAR Case 2017-019, Policy on Joint Ventures | 9000-AN59
268 | Federal Acquisition Regulation (FAR); FAR Case 2018-020, Construction Contract Administration | 9000-AN78
269 | Federal Acquisition Regulation (FAR); FAR Case 2018-017, Prohibition on Certain Telecommunications and Video Surveillance Services or Equipment | 9000-AN83
270 | Federal Acquisition Regulation (FAR); FAR Case 2019-001, Analysis for Equipment Acquisitions | 9000-AN84
271 | Federal Acquisition Regulation (FAR); FAR Case 2019-003, Substantial Bundling and Consolidation | 9000-AN86
272 | Federal Acquisition Regulation (FAR); FAR Case 2019-004, Good Faith in Small Business Subcontracting | 9000-AN87
273 | Federal Acquisition Regulation (FAR); FAR Case 2019-009, Prohibition on Contracting With Entities Using Certain Telecommunications and Video Surveillance Services or Equipment | 9000-AN92
274 | Federal Acquisition Regulation (FAR); FAR Case 2020-004, Application of the MPT to Certain Task and Delivery Orders | 9000-AO04
275 | Federal Acquisition Regulation (FAR); FAR Case 2020-011, Implementation of FASC Exclusion Orders | 9000-AO13
276 | Federal Acquisition Regulation (FAR); FAR Case 2020-012, Scope of Review by Procurement Center Representatives | 9000-AO16
277 | Federal Acquisition Regulation (FAR); FAR Case 2021-003, Update to Certain Online References in the FAR | 9000-AO21

DOD/GSA/NASA (FAR)—Completed Actions
Sequence No. | Title | Regulation Identifier No.
278 | Federal Acquisition Regulation (FAR); FAR Case 2011-001; Organizational Conflicts of Interest and Unequal Access to Information | 9000-AL82
279 | Federal Acquisition Regulation (FAR); FAR Case 2012-001; Performance of Inherently Governmental Functions and Critical Functions | 9000-AM41
280 | Federal Acquisition Regulation (FAR); FAR Case 2013-022; Extension of Limitations on Contractor Employee Personal Conflicts of Interest | 9000-AM69
281 | Federal Acquisition Regulation (FAR); FAR Case 2015-023; Federal Supply Schedule Order Level Material | 9000-AM95
282 | Federal Acquisition Regulation (FAR); FAR Case 2017-003; Individual Sureties | 9000-AN39
283 | Federal Acquisition Regulation (FAR); FAR Case 2015-037, Definition of “Information Technology” | 9000-AN48
284 | Federal Acquisition Regulation (FAR); FAR Case 2017-018, Violation of Arms Control Treaties or Agreements With the United States | 9000-AN57
285 | Federal Acquisition Regulation (FAR); FAR Case 2018-002, Protecting Life in Global Health Assistance | 9000-AN62
286 | Federal Acquisition Regulation (FAR); FAR Case 2018-016, Lowest Price Technically Acceptable Source Selection Process | 9000-AN75
287 | Federal Acquisition Regulation (FAR); FAR Case 2018-021, Reserve Officer Training Corps and Military Recruiting on Campus | 9000-AN79
288 | Federal Acquisition Regulation (FAR); FAR Case 2018-023, Taxes-Foreign Contracts in Afghanistan | 9000-AN81
289 | Federal Acquisition Regulation (FAR); FAR Case 2019-002, Recreational Services on Federal Lands | 9000-AN85
290 | Federal Acquisition Regulation (FAR); FAR Case 2019-010, Efficient Federal Operations | 9000-AN94
291 | Federal Acquisition Regulation (FAR); FAR Case 2019-016, Maximizing Use of American-Made Goods, Products and Materials | 9000-AN99
292 | Federal Acquisition Regulation (FAR); FAR Case 2020-006, Documentation of Market Research | 9000-AO09
293 | Federal Acquisition Regulation (FAR); FAR Case 2021-002, Increased Efficiencies With Regard to In-Person Business, Mail, and Signatures | 9000-AO20

DEPARTMENT OF DEFENSE/GENERAL SERVICES ADMINISTRATION/NATIONAL AERONAUTICS AND SPACE ADMINISTRATION (FAR)

Proposed Rule Stage

240. Federal Acquisition Regulation (FAR); FAR Case 2017-013, Breaches of Personally Identifiable Information

Legal Authority: 40 U.S.C. 121(c); 10 U.S.C. ch. 137; 51 U.S.C. 20113

Abstract: DoD, GSA, and NASA are proposing to amend the Federal Acquisition Regulation (FAR) to create and implement appropriate contract clauses and regulatory coverage to address contractor requirements for a breach response consistent with the requirements. This FAR change will implement the requirements outlined in the Office of Management and Budget (OMB) Memorandum, M-17-12, “Preparing for and Responding to a Breach of Personally Identifiable Information,” section V part B.

Timetable:

Action | Date | FR Cite
NPRM | 05/00/21 |
NPRM Comment Period End | 07/00/21 |

Regulatory Flexibility Analysis Required: Yes.

Agency Contact: Camara Francis, Procurement Analyst, DOD/GSA/NASA (FAR), 1800 F Street NW, Washington, DC 20405, Phone: 202-550-0935, Email: camara.francis@gsa.gov.

RIN: 9000-AN44

241. Federal Acquisition Regulation (FAR); Far Case 2017-016, Controlled Unclassified Information (CUI)

Legal Authority: 40 U.S.C. 121(c); 10 U.S.C. ch. 137; 51 U.S.C. 20113

Abstract: DoD, GSA, and NASA are proposing to amend the Federal Acquisition Regulation (FAR) to implement the National Archives and Records Administration (NARA) Controlled Unclassified Information (CUI) program of Executive Order 13556 of November 4, 2010. As the executive agent designated to oversee the Governmentwide CUI program, NARA issued implementing regulations in late 2016 designed to address Federal agency policies for designating, safeguarding, disseminating, marking, decontrolling, and disposing of CUI. The NARA rule, which is codified at 32 CFR 2002, affects contractors that handle, possess, use, share, or receive CUI. This FAR rule helps to ensure uniform implementation of the requirements of the CUI program in contracts across Government agencies.

Timetable:

Action | Date | FR Cite
NPRM | 11/00/21 |
NPRM Comment Period End | 01/00/22 |

Regulatory Flexibility Analysis Required: Yes.

Agency Contact: Camara Francis, Procurement Analyst, DOD/GSA/NASA (FAR), 1800 F Street NW, Washington, DC 20405, Phone: 202-550-0935, Email: camara.francis@gsa.gov.

RIN: 9000-AN56

242. Federal Acquisition Regulation (FAR); Far Case 2018-006; Definition of Subcontract

Legal Authority: 40 U.S.C. 121(c); 10 U.S.C. ch. 137; 51 U.S.C. 20113

Abstract: DoD, GSA, and NASA are proposing to amend the Federal Acquisition Regulation (FAR) to implement section 820 of the National Defense Authorization Act (NDAA) for FY 2018. Section 820 amends 41 U.S.C. 1906(c)(1) to change the definition of “subcontract” for the procurement of commercial items to exclude agreements entered into by a contractor for the supply of commodities that are intended for use in the performance of multiple contracts with the Federal Government and other parties and are not identifiable to any particular contract.

Timetable:

Action | Date | FR Cite
NPRM | 10/00/21 |
NPRM Comment Period End | 12/00/21 |

Regulatory Flexibility Analysis Required: Yes.

Agency Contact: Michael O. Jackson, Procurement Analyst, DOD/GSA/NASA (FAR), 1800 F Street NW, Washington, DC 20405, Phone: 202-208-4949, Email: michaelo.jackson@gsa.gov.

RIN: 9000-AN66

243. Federal Acquisition Regulation (FAR); Far Case 2018-012, Rights to Federally Funded Inventions and Licensing of Government-Owned Inventions

Legal Authority: 40 U.S.C. 121(c); 10 U.S.C. ch. 137; 51 U.S.C. 20113

Abstract: DoD, GSA, and NASA are proposing to amend the FAR to implement the changes to 37 CFR parts 401 and 404, “Rights to Federally Funded Inventions and Licensing of Government-Owned Inventions,” dated May 14, 2018. The changes reduce regulatory burdens on the public, but increase burdens on the Government, provide greater clarity to large businesses by codifying the applicability of Bayh-Dole as directed in Executive Order 12591, and provide greater clarity to all Federal funding recipients by updating regulatory provisions to align with provisions of the Leahy-Smith America Invents Act in terms of definitions and timeframes.

Timetable:

Action | Date | FR Cite
NPRM | 08/00/21 |
NPRM Comment Period End | 10/00/21 |

Regulatory Flexibility Analysis Required: Yes.

Agency Contact: Michael O. Jackson, Procurement Analyst, DOD/GSA/NASA (FAR), 1800 F Street NW, Washington, DC 20405, Phone: 202-208-4949, Email: michaelo.jackson@gsa.gov.

RIN: 9000-AN71

244. Federal Acquisition Regulation (FAR); Far Case 2018-013, Exemption of Commercial and Cots Item Contracts From Certain Laws and Regulations

Legal Authority: 40 U.S.C. 121(c); 10 U.S.C. ch.137; 51 U.S.C. 20113

Abstract: DoD, GSA, and NASA are proposing to amend the Federal Acquisition Regulation (FAR) to implement section 839 of the John S. McCain National Defense Authorization Act for fiscal year 2019. Paragraph (a) requires the FAR Council to review each past determination made not to exempt contracts and subcontracts for commercial products, commercial services, and commercially available off-the-shelf (COTS) items from certain laws when these contracts would otherwise have been exempt under 41 U.S.C. 1906(d) or 41 U.S.C. 1907(b). The FAR Council or the Administrator for Federal Procurement Policy has to determine whether there still exists specific reason not to provide exemptions from certain laws. If no determination is made to continue to exempt commercial contracts and subcontracts from certain laws, paragraph (a) requires that revisions to the FAR be proposed to reflect exemptions from those laws.

Paragraph (b) requires the FAR Council to review the FAR to assess every regulation that requires a specific clause in contracts for commercial products or commercial services, unless the regulation is required by law or Executive Order. Paragraph (b) also requires that revisions to the FAR be proposed to eliminate those regulations unless the FAR Council makes a determination not to eliminate a regulation.

Paragraph (c) requires the FAR Council to review the FAR to assess every regulation that requires a prime contractor to include a specific clause in subcontracts for commercially available off-the-shelf items, unless the clause is required by law or Executive Order. Paragraph (c) also requires that revisions to the FAR be proposed to eliminate those regulations unless the FAR Council makes a determination not to eliminate a regulation.

Timetable:

Action | Date | FR Cite
NPRM | 10/00/21 |
NPRM Comment Period End | 12/00/21 |

Regulatory Flexibility Analysis Required: Yes.

Agency Contact: Mahruba Uddowla, Procurement Analyst, DOD/GSA/NASA (FAR), 1800 F Street NW, Washington, DC 20405, Phone: 703-605-2868, Email: mahruba.uddowla@gsa.gov.

RIN: 9000-AN72

245. Federal Acquisition Regulation (FAR); Far Case 2018-014, Increasing Task-Order Level Competition

Legal Authority: 40 U.S.C. 121(c); 10 U.S.C. ch. 137; 51 U.S.C. 20113

Abstract: DoD, GSA, and NASA are proposing to amend the Federal Acquisition Regulation (FAR) to implement section 876 of the John S. McCain National Defense Authorization Act for fiscal year 2019, which would provide civilian agencies with an exception to the existing statutory requirement to include price to the Federal Government as an evaluation factor that must be considered in the evaluation of proposals for all contracts. The exception would only apply to IDIQ contracts and to Federal Supply Schedule contracts for services that are priced at an hourly rate. Furthermore, the exception would only apply in those instances where the Government intends to make a contract award to all qualifying offerors, thus affording maximum opportunity for effective competition at the task order level. An offeror would be qualified only if it is a responsible source and submits a proposal that conforms to the requirements of the solicitation, meets any technical requirements, and is otherwise eligible for award.

Timetable:

Action | Date | FR Cite
NPRM | 12/00/21 |
NPRM Comment Period End | 02/00/22 |

Regulatory Flexibility Analysis Required: Yes.

Agency Contact: Curtis E. Glover Sr., Procurement Analyst, DOD/GSA/NASA (FAR), 1800 F Street NW, Washington, DC 20405, Phone: 202-501-1448, Email: curtis.glover@gsa.gov.

RIN: 9000-AN73

246. Federal Acquisition Regulation (FAR); FAR Case 2019-007, Update of Historically Underutilized Business Zone Program

Legal Authority: 40 U.S.C. 121(c); 10 U.S.C. ch. 137; 51 U.S.C. 20113

Abstract: DoD, GSA, and NASA are proposing to amend the Federal Acquisition Regulation (FAR) to implement regulatory changes issued in a final rule on November 26, 2019 by the Small Business Administration regarding the Historically Underutilized Business Zone (HUBZone) Program. The regulatory changes are intended to reduce the regulatory burden associated with the HUBZone Program.

Timetable:

Action | Date | FR Cite
NPRM | 05/00/21 |
NPRM Comment Period End | 07/00/21 |

Regulatory Flexibility Analysis Required: Yes.

Agency Contact: Malissa Jones, Procurement Analyst, DOD/GSA/NASA (FAR), 1800 F Street NW, Washington, DC 20405, Phone: 703 605-2815, Email: malissa.jones@gsa.gov.

RIN: 9000-AN90

247. Federal Acquisition Regulation (FAR); FAR Case 2019-008, Small Business Program Amendments

Legal Authority: 40 U.S.C. 121(c); 10 U.S.C. ch. 137; 51 U.S.C. 20113

Abstract: DoD, GSA, and NASA are proposing to amend the Federal Acquisition Regulation (FAR) to implement regulatory changes proposed by the Small Business Administration regarding small business programs. The proposed regulatory changes include the timing of the determination of size status for multiple-award contracts for which price is not evaluated at the contract level; the grounds for size-status protests; and the grounds for socioeconomic status protests.

Timetable:

Action | Date | FR Cite
NPRM | 07/00/21 |
NPRM Comment Period End | 09/00/21 |

Regulatory Flexibility Analysis Required: Yes.

Agency Contact: Malissa Jones, Procurement Analyst, DOD/GSA/NASA (FAR), 1800 F Street NW, Washington, DC 20405, Phone: 703 605-2815, Email: malissa.jones@gsa.gov.

RIN: 9000-AN91

248. Federal Acquisition Regulation (FAR); FAR Case 2019-015, Improving Consistency Between Procurement & Non-Procurement Procedures on Suspension and Debarment

Legal Authority: 40 U.S.C. 121(c); 10 U.S.C. ch. 137; 51 U.S.C. 20113

Abstract: DoD, GSA, and NASA are proposing to amend the Federal Acquisition Regulation (FAR) to bring the FAR and the Non-procurement Common Rule (NCR) procedures on suspension and debarment into closer alignment. The FAR covers procurement matters and the NCR covers other transactions, such as grants, cooperative agreements, contracts of assistance, loans and loan guarantees.

The Government uses suspension and debarment procedures to exercise business judgment. These procedures give Federal officials a discretionary means to exclude parties from participation in certain transactions, while affording those parties due process.

Timetable:

Action | Date | FR Cite
NPRM | 07/00/21 |
NPRM Comment Period End | 09/00/21 |

Regulatory Flexibility Analysis Required: Yes.

Agency Contact: Curtis E. Glover Sr., Procurement Analyst, DOD/GSA/NASA (FAR), 1800 F Street NW, Washington, DC 20405, Phone: 202 501-1448, Email: curtis.glover@gsa.gov.

RIN: 9000-AN98

249. Federal Acquisition Regulation (FAR); FAR Case 2020-005, Explanations to Unsuccessful Offerors on Certain Orders Under Task and Delivery Order Contracts

Legal Authority: 40 U.S.C. 121(c); 10 U.S.C. ch. 137; 51 U.S.C. 20113

Abstract: DoD, GSA, and NASA are proposing to amend the Federal Acquisition Regulation (FAR) to implement section 874 of the NDAA for FY 2020, which requires, when awarding a task or delivery order in an amount greater than the simplified acquisition threshold, but not greater than $5.5 million, contracting officers, upon written request from an unsuccessful offeror, to provide a brief explanation as to why the offeror was unsuccessful, including the rationale for award and an evaluation of the significant weak or deficient factors in the offeror's offer.

Timetable:

Action | Date | FR Cite
NPRM | 08/00/21 |
NPRM Comment Period End | 10/00/21 |

Regulatory Flexibility Analysis Required: Yes.

Agency Contact: Michael O. Jackson, Procurement Analyst, DOD/GSA/NASA (FAR), 1800 F Street NW, Washington, DC 20405, Phone: 202 208-4949, Email: michaelo.jackson@gsa.gov.

RIN: 9000-AO08

250. Federal Acquisition Regulation (FAR); FAR Case 2020-007, Accelerated Payments Applicable to Contracts With Certain Small Business Concerns

Legal Authority: 40 U.S.C. 121(c); 10 U.S.C. ch. 137; 51 U.S.C. 20113

Abstract: DoD, GSA, and NASA are proposing to amend the Federal Acquisition Regulation (FAR) to establish an accelerated payment date for small business contractors, to the fullest extent permitted by law, with a goal of 15 days after receipt of a proper invoice, if a specific payment date is not established by contract. For contractors that subcontract with small businesses, the proposed rule, to the fullest extent permitted by law, establishes an accelerated payment date, with a goal of 15 days after receipt of a proper invoice, if: (1) A specific payment date is not established by contract, and (2) the contractor agrees to make accelerated payments to the subcontractor without any further consideration from, or fees charged to, the subcontractor. This change implements section 873 of the National Defense Authorization Act for Fiscal Year 2020 (Pub. L. 116-92). Section 873 amends 31 U.S.C. 3903(a).

Timetable:

Action | Date | FR Cite
NPRM | 06/00/21 |
NPRM Comment Period End | 08/00/21 |

Regulatory Flexibility Analysis Required: Yes.

Agency Contact: Zenaida Delgado, Procurement Analyst, DOD/GSA/NASA (FAR), 1800 F Street NW, Washington, DC 20405, Phone: 202 969-7207, Email: zenaida.delgado@gsa.gov.

RIN: 9000-AO10

251. Federal Acquisition Regulation (FAR); FAR Case 2020-008, Prohibition on Criminal History Inquiries by Contractors Prior to Conditional Offer

Legal Authority: 40 U.S.C. 121(c); 10 U.S.C. ch. 137; 51 U.S.C. 20113

Abstract: DoD, GSA, and NASA are proposing to amend the Federal Acquisition Regulation (FAR) to implement section 1123 of the NDAA for FY 2020 (Pub. L. 116-92), which added at 41 U.S.C. 4714 and 10 U.S.C. 2339 prohibitions related to criminal history inquiries on individuals competing for or applying to work on Federal contracts. Per the statute, a contractor may not request criminal history record information on an applicant for a position related to work under a contract before the contractor has extended a conditional offer to the applicant for that position. In addition, the Federal Government may not request criminal history record information on an individual or sole proprietor who is competing on a Federal Government contract, unless that individual is the apparently successful offeror. This proposed rule implements the statutory prohibition and the associated procedures and exceptions.

Timetable:

Action | Date | FR Cite
NPRM | 07/00/21 |
NPRM Comment Period End | 09/00/21 |

Regulatory Flexibility Analysis Required: Yes.

Agency Contact: Jennifer Hawes, Procurement Analyst, DOD/GSA/NASA (FAR), 1800 F Street NW, Washington, DC 20405, Phone: 202 969-7386, Email: jennifer.hawes@gsa.gov.

RIN: 9000-AO11

252. Federal Acquisition Regulation (FAR); FAR Case 2020-010, Small Business Innovation Research and Technology Transfer Programs

Legal Authority: 40 U.S.C. 121(c); 10 U.S.C. ch. 137; 51 U.S.C. 20113

Abstract: DoD, GSA and NASA are proposing to amend the Federal Acquisition Regulation (FAR) to implement changes to the U.S. Small Business Administration (SBA) Small Business Innovation Research (SBIR) and Small Business Technology Transfer (STTR) Policy Directive issued (May 2, 2019). The proposed changes include updating FAR 27 to add reference to the STTR program, revise: definitions, allocation of rights, protection period, SBIR/STTR rights notice, data rights marking provisions, and add language to FAR 6.302-5(b) to acknowledge the unique competition requirements for SBIR/STTR Phase III contracts permitted by the Small Business Act.

Timetable:

Action | Date | FR Cite
NPRM | 09/00/21 |
NPRM Comment Period End | 11/00/21 |

Regulatory Flexibility Analysis Required: Yes.

Agency Contact: Mahruba Uddowla, Procurement Analyst, DOD/GSA/NASA (FAR), 1800 F Street NW, Washington, DC 20405, Phone: 703 605-2868, Email: mahruba.uddowla@gsa.gov.

RIN: 9000-AO12

253. Federal Acquisition Regulation (FAR); FAR Case 2020-013, Certification of Women-Owned Small Businesses

Legal Authority: 40 U.S.C. 121(c); 10 U.S.C. ch. 137; 51 U.S.C. 20113

Abstract: The purpose of this FAR case is to implement the statutory requirement for certification of women-owned and economically disadvantaged women-owned small businesses participating in the Women-Owned Small Business Program (section 825 of the National Defense Authorization Act for Fiscal Year 2015), as implemented by the Small Business Administration in its final rule published May 11, 2020.

Timetable:

Action | Date | FR Cite
NPRM | 06/00/21 |
NPRM Comment Period End | 08/00/21 |

Regulatory Flexibility Analysis Required: Yes.

Agency Contact: Malissa Jones, Procurement Analyst, DOD/GSA/NASA (FAR), 1800 F Street NW, Washington, DC 20405, Phone: 703-605-2815, Email: malissa.jones@gsa.gov.

RIN: 9000-AO17

254. • Federal Acquisition Regulation (FAR); FAR Case 2020-016, Rerepresentation of Size and Socioeconomic Status

Legal Authority: 40 U.S.C. 121(c); 10 U.S.C. ch. 137; 51 U.S.C. 20113

Abstract: DoD, GSA, and NASA are proposing to amend the FAR to implement statutory requirements as implemented by the Small Business Administration's final rule published October 16, 2020 (85 FR 66146), requiring contractors to rerepresent its size and economic status for all set-aside orders placed against full and open multiple award contracts, except those set-aside orders placed under FAR 8.4.

Timetable:

Action | Date | FR Cite
NPRM | 12/00/21 |
NPRM Comment Period End | 02/00/22 |

Regulatory Flexibility Analysis Required: Yes.

Agency Contact: Dana Bowman, Procurement Analyst, DoD/GSA/NASA (FAR), DOD/GSA/NASA (FAR), 1800 F Street NW, Washington, DC 20405, Phone: 202 803-3188, Email: dana.bowman@gsa.gov.

RIN: 9000-AO18

255. • Federal Acquisition Regulation (FAR); FAR Case 2021-001, Increased Efficiencies With Regard to Certified Mail, In-Person Business, Mail, Notarization, Original Documents, Seals, and Signatures

Legal Authority: 40 U.S.C. 121(c); 10 U.S.C. ch. 137; 51 U.S.C. 20113

Abstract: DoD, GSA, and NASA are proposing to amend the Federal Acquisition Regulation to increase flexibilities and efficiencies regarding certified mail, in-person business, mail, notarization, original documents, seals, and signatures using digital and virtual technology. This would streamline certain essential contracting procedures.

Timetable:

Action | Date | FR Cite
NPRM | 10/00/21 |
NPRM Comment Period End | 12/00/21 |

Regulatory Flexibility Analysis Required: Yes.

Agency Contact: Zenaida Delgado, Procurement Analyst, DOD/GSA/NASA (FAR), 1800 F Street NW, Washington, DC 20405, Phone: 202 -969-7207, Email: zenaida.delgado@gsa.gov.

RIN: 9000-AO19

256. • Federal Acquisition Regulation (FAR); FAR Case 2021-008, Amendments to the FAR Buy American Act Requirements

Legal Authority: 40 U.S.C. 121(c); 10 U.S.C. ch. 137; 51 U.S.C. 20113

Abstract: DoD, GSA, and NASA are considering amending the Federal Acquisition Regulation (FAR) to implement section 8 of Executive Order 14005, Ensuring the Future Is Made in All of America by All of America's Workers. Section 8 requires the Federal Acquisition Regulatory Council to consider amending the FAR to (1) replace the component test used to identify domestic end products and domestic construction materials with a test under which domestic content is measured by the value that is added to the product through U.S.-based production or U.S. job-supporting economic activity, (2) increase the threshold for the domestic content requirement, and (3) increase the price preferences for domestic end products and domestic construction materials. DoD, GSA, and NASA are seeking information that will assist in drafting a proposed rule that will meet the objectives of section 8.

Timetable:

Action | Date | FR Cite
NPRM | 07/00/21 |
NPRM Comment Period End | 09/00/22 |

Regulatory Flexibility Analysis Required: Yes.

Agency Contact: Mahruba Uddowla, Procurement Analyst, DOD/GSA/NASA (FAR), 1800 F Street NW, Washington, DC 20405, Phone: 703 605-2868, Email: mahruba.uddowla@gsa.gov.

RIN: 9000-AO22

257. • FAR Acquisition Regulation (FAR); FAR Case 2021-005; Disclosure of Beneficial Owner in Federal Contracting

Legal Authority: 40 U.S.C. 121(c); 10 U.S.C. ch. 137; 51 U.S.C. 20113

Abstract: DoD, GSA, and NASA are proposing to amend the Federal Acquisition Regulation (FAR) to implement sections 885 and 6403 of the William M. (Mac) Thornberry National Defense Authorization Act for Fiscal Year 2021. Section 885 requires that the Federal Awardee Performance and Integrity Information System include identifying information on the beneficial owner of a Federal contractor that is a corporation. Paragraph (c) of section 6403 directs the FAR to be changed to require certain offerors to disclose beneficial ownership information in their offers for contracts over the simplified acquisition threshold.

Timetable:

Action | Date | FR Cite
NPRM | 12/00/21 |
NPRM Comment Period End | 02/00/22 |

Regulatory Flexibility Analysis Required: Yes.

Agency Contact: Mahruba Uddowla, Procurement Analyst, DOD/GSA/NASA (FAR), 1800 F Street NW, Washington, DC 20405, Phone: 703 605-2868, Email: mahruba.uddowla@gsa.gov.

RIN: 9000-AO23

258. • Federal Acquisition Regulation (FAR); FAR Case 2021-006, Prohibition on Requiring Disclosure of Political Contributions

Legal Authority: 40 U.S.C. 121(c); 10 U.S.C. ch. 137; 51 U.S.C. 20113

Abstract: DoD, GSA, and NASA are proposing to amend the Federal Acquisition Regulation (FAR) to implement section 735 of Division E of title VII of the Consolidated Appropriations Act, 2021 (Pub. L. 116-260) and similar sections in prior appropriations acts, which prohibit the Government from recommending or requiring an offeror on a Federal contract to disclose as a condition of its offer any payments the offeror has made to a candidate for election for Federal office or to a political committee.

Timetable:

Action | Date | FR Cite
NPRM | 12/00/21 |
NPRM Comment Period End | 02/00/22 |

Regulatory Flexibility Analysis Required: Yes.

Agency Contact: Jennifer Hawes, Procurement Analyst, DOD/GSA/NASA (FAR), 1800 F Street NW, Washington, DC 20405, Phone: 202 969-7386, Email: jennifer.hawes@gsa.gov.

RIN: 9000-AO24

259. • Federal Acquisition Regulation (FAR); FAR Case 2021-007, Maximum Award Price for Certain Sole Source Manufacturing Contracts

Legal Authority: 40 U.S.C. 121(c); 10 U.S.C. ch. 137; 51 U.S.C. 20113

Abstract: DoD, GSA, and NASA are proposing to amend the Federal Acquisition Regulation (FAR) to implement section 864 of the William M. (Mac) Thornberry National Defense Authorization Act for Fiscal Year 2021. Section 864 amends the Small Business Act by modifying the maximum award price for sole source manufacturing contracts to $7 million for the 8(a), Women-Owned Small Business (WOSB), Historically Underutilized Business Zone (HUBZone), and Service-Disabled Veteran-Owned Small Business (SDVOSB) programs. This rule will change the current FAR thresholds for the 8(a) and HUBZone programs from $7.5 million to the statutory threshold of $7 million. The thresholds for the WOSB and SDVOSB programs will remain unchanged at the current FAR $7 million threshold.

Timetable:

Action | Date | FR Cite
NPRM | 09/00/21 |
NPRM Comment Period End | 11/00/21 |

Regulatory Flexibility Analysis Required: Yes.

Agency Contact: Michael O. Jackson, Procurement Analyst, DOD/GSA/NASA (FAR), 1800 F Street NW, Washington, DC 20405, Phone: 202 208-4949, Email: michaelo.jackson@gsa.gov.

RIN: 9000-AO25

DEPARTMENT OF DEFENSE/GENERAL SERVICES ADMINISTRATION/NATIONAL AERONAUTICS AND SPACE ADMINISTRATION (FAR)

Final Rule Stage

260. Federal Acquisition Regulation: FAR Case 2016-005; Effective Communication Between Government and Industry

Legal Authority: 40 U.S.C. 121(c); 10 U.S.C. ch. 137; 51 U.S.C. 20113

Abstract: DoD, GSA, and NASA are issuing a final rule amending the Federal Acquisition Regulation (FAR) to implement section 887 of the NDAA for FY 2016 (Pub. L. 114-92). This law provides that Government acquisition personnel are permitted and encouraged to engage in responsible and constructive exchanges with industry. This change will permit and encourage Government acquisition personnel to engage in responsible and constructive exchanges with industry as part of market research as long as those exchanges are consistent with existing laws and regulations and promote a fair competitive environment.

Timetable:

Action | Date | FR Cite
NPRM | 11/29/16 | 81 FR 85914
NPRM Comment Period End | 03/02/17 |
Final Rule | 08/00/21 |

Regulatory Flexibility Analysis Required: Yes.

Agency Contact: Michael O. Jackson, Procurement Analyst, DOD/GSA/NASA (FAR), 1800 F Street NW, Washington, DC 20405, Phone: 202 208-4949, Email: michaelo.jackson@gsa.gov.

RIN: 9000-AN29

261. Federal Acquisition Regulation (FAR); FAR Case 2015-038, Reverse Auction Guidance

Legal Authority: 40 U.S.C. 121(c); 10 U.S.C. ch. 137; 51 U.S.C. 20113

Abstract: DoD, GSA, and NASA are issuing a final rule to amend the Federal Acquisition Regulation (FAR) to implement policies addressing the effective use of reverse auctions. Reverse auctions involve offerors lowering their pricing over multiple rounds of bidding in order to win Federal contracts. This change incorporates guidance from the Office of Federal Procurement Policy (OFPP) memorandum, “Effective Use of Reverse Auctions,” which was issued in response to recommendations from the GAO report, Reverse Auctions: Guidance is Needed to Maximize Competition and Achieve Cost Savings (GAO-14-108). Reverse auctions are one tool used by Federal agencies to increase competition and reduce the cost of certain items. Reverse auctions differ from traditional auctions in that sellers compete against one another to provide the lowest price or highest-value offer to a buyer. This change to the FAR will include guidance that will standardize agencies' use of reverse auctions to help agencies maximize competition and savings when using reverse auctions.

Timetable:

Action | Date | FR Cite
NPRM | 12/07/20 | 85 FR 78815
NPRM Comment Period End | 02/05/21 |
Final Rule | 09/00/21 |

Regulatory Flexibility Analysis Required: Yes.

Agency Contact: Curtis E. Glover Sr., Procurement Analyst, DOD/GSA/NASA (FAR), 1800 F Street NW, Washington, DC 20405, Phone: 202 501-1448, Email: curtis.glover@gsa.gov.

RIN: 9000-AN31

262. Federal Acquisition Regulation (FAR); FAR Case 2017-005, Whistleblower Protection for Contractor Employees

Legal Authority: 40 U.S.C. 121(c); 10 U.S.C. ch. 137; 51 U.S.C. 20113

Abstract: DoD, GSA, and NASA are issuing a final rule to amend the Federal Acquisition Regulation (FAR) to implement 41 U.S.C. 4712, “Enhancement of Contractor Protection From Reprisal for Disclosure of Certain Information,” and makes the pilot program permanent. The pilot was enacted on January 2, 2013, by section 828 of the National Defense Authorization Act (NDAA) for fiscal year (FY) 2013. The rule clarifies that contractors and subcontractors are prohibited from discharging, demoting, or otherwise discriminating against an employee as a reprisal for disclosing to any of the entities such as agency Inspector Generals and Congress information that the employee reasonably believes is evidence of gross mismanagement of a Federal contract; a gross waste of Federal funds; an abuse of authority relating to a Federal contract; a substantial and specific danger to public health or safety; or a violation of law, rule, or regulation related to a Federal contract (including the competition for or negotiation of a contract.) This rule enhances whistleblower protections for contractor employees by making permanent the protection for disclosure of the aforementioned information, and ensuring that the prohibition on reimbursement for legal fees accrued in defense against reprisal claims applies to both contractors and subcontractors.

Timetable:

Action | Date | FR Cite
NPRM | 12/26/18 | 83 FR 66223
NPRM Comment Period End | 02/25/19 |
Final Rule | 08/00/21 |

Regulatory Flexibility Analysis Required: Yes.

Agency Contact: Curtis E. Glover Sr., Procurement Analyst, DOD/GSA/NASA (FAR), 1800 F Street NW, Washington, DC 20405, Phone: 202 501-1448, Email: curtis.glover@gsa.gov.

RIN: 9000-AN32

263. Federal Acquisition Regulation; FAR Case 2016-002, Applicability of Small Business Regulations Outside the United States

Legal Authority: 40 U.S.C. 121(c); 10 U.S.C. ch. 137; 51 U.S.C. 20113

Abstract: DoD, GSA, and NASA are issuing a final rule to amend the Federal Acquisition Regulation (FAR) to support SBA's policy of including overseas contracts in agency small business contracting goals. SBA revised its regulation at 13 CFR 125.2, as finalized in its rule “Acquisition Process: Task and Delivery Order Contracts, Bundling, Consolidation” issued on October 2, 2013, to clarify that overseas contracting is not excluded from agency responsibilities to foster small business participation.

In its final rule, SBA has clarified that, as a general matter, its small business contracting regulations apply regardless of the place of performance. In light of these changes, there is a need to amend the FAR, both to support the changes to SBA's regulation, and to give agencies the tools they need, especially the ability to use set-asides to maximize opportunities for small businesses overseas.

Timetable:

Action | Date | FR Cite
NPRM | 08/12/19 | 84 FR 39793
NPRM Comment Period End | 10/11/19 |
Final Rule | 07/00/21 |

Regulatory Flexibility Analysis Required: Yes.

Agency Contact: Mahruba Uddowla, Procurement Analyst, DOD/GSA/NASA (FAR), 1800 F Street NW, Washington, DC 20405, Phone: 703 605-2868, Email: mahruba.uddowla@gsa.gov.

RIN: 9000-AN34

264. Federal Acquisition Regulation (FAR); FAR Case 2016-011, Revision of Limitations on Subcontracting

Legal Authority: 40 U.S.C. 121(c); 10 U.S.C. ch. 137; 51 U.S.C. 20113

Abstract: DoD, GSA, and NASA are issuing a final rule to amend the Federal Acquisition Regulation (FAR) to revise and standardize the limitations on subcontracting, including the nonmanufacturer rule, that apply to small business concerns under FAR part 19 procurements. This rule incorporates the Small Business Administration's (SBA) final rule that implemented the statutory requirements of section 1651 of the National Defense Authorization Act (NDAA) for fiscal year 2013. This action is necessary to meet the Congressional intent of clarifying the limitations on subcontracting with which small businesses must comply, as well as the ways in which they can comply. The rule will benefit both small businesses and Federal agencies. The rule will allow small businesses to take advantage of subcontracts with similarly situated entities. As a result, these small businesses will be able to compete for larger contracts, which would positively affect their potential for growth as well as that of their potential subcontractors.

Timetable:

Action | Date | FR Cite
NPRM | 12/04/18 | 83 FR 62540
NPRM Comment Period End | 02/04/19 |
Final Rule | 05/00/21 |

Regulatory Flexibility Analysis Required: Yes.

Agency Contact: Mahruba Uddowla, Procurement Analyst, DOD/GSA/NASA (FAR), 1800 F Street NW, Washington, DC 20405, Phone: 703 605-2868, Email: mahruba.uddowla@gsa.gov.

RIN: 9000-AN35

265. Federal Acquisition Regulation (FAR); FAR Case 2017-014, Use of Acquisition 360 to Encourage Vendor Feedback

Legal Authority: 40 U.S.C. 121(c); 10 U.S.C. ch. 137; 51 U.S.C. 20113

Abstract: DoD, GSA, and NASA are issuing a final rule to amend the Federal Acquisition Regulation (FAR) to address the solicitation of contractor feedback on both contract formation and contract administration activities. Agencies would consider this feedback, as appropriate, to improve the efficiency and effectiveness of their acquisition activities. The rule will create FAR policy to encourage regular feedback in accordance with agency practice (both for contract formation and administration activities) and a standard FAR solicitation provision to support a sustainable model for broadened use of the Acquisition 360 survey to elicit feedback on the pre-award and debriefing processes in a consistent and standardized manner. Agencies will be able to use the solicitation provision to notify interested sources that a procurement is part of the Acquisition 360 survey and encourage stakeholders to voluntarily provide feedback on their experiences of the pre-award process.

Timetable:

Action | Date | FR Cite
ANPRM | 07/23/18 | 83 FR 34820
ANPRM Comment Period End | 09/21/18 |
NPRM | 09/15/20 | 85 FR 57177
NPRM Comment Period End | 11/16/20 |
Final Rule | 08/00/21 |

Regulatory Flexibility Analysis Required: Yes.

Agency Contact: Curtis E. Glover Sr., Procurement Analyst, DOD/GSA/NASA (FAR), 1800 F Street NW, Washington, DC 20405, Phone: 202 501-1448, Email: curtis.glover@gsa.gov.

RIN: 9000-AN43

266. Federal Acquisition Regulation (FAR); FAR Case 2017-011, Section 508-Based Standards in Information and Communication Technology

Legal Authority: 40 U.S.C. 121(c); 10 U.S.C. ch. 137; 51 U.S.C. 20113

Abstract: DoD, GSA, and NASA are issuing a final rule to amend the Federal Acquisition Regulation (FAR) to incorporate recent revisions and updates to accessibility standards issued by the U.S. Access Board pursuant to section 508 of the Rehabilitation Act of 1973. This FAR change incorporates the U.S. Access Board's final rule, “Information and Communication Technology (ICT) Standards and Guidelines,” which published on January 18, 2017. This rule updates the FAR to ensure that the updated accessibility standards are appropriately considered in Federal ICT acquisitions.

Timetable:

Action | Date | FR Cite
NPRM | 03/31/20 | 85 FR 17831
Correction | 04/16/20 | 85 FR 21139
NPRM Comment Period End | 06/01/20 |
Final Rule | 06/00/21 |

Regulatory Flexibility Analysis Required: Yes.

Agency Contact: Camara Francis, Procurement Analyst, DOD/GSA/NASA (FAR), 1800 F Street NW, Washington, DC 20405, Phone: 202 550-0935, Email: camara.francis@gsa.gov.

RIN: 9000-AN46

267. Federal Regulation Acquisition (FAR); FAR Case 2017-019, Policy on Joint Ventures

Legal Authority: 40 U.S.C. 121(c); 10 U.S.C. ch. 137; 51 U.S.C. 20113

Abstract: DoD, GSA, and NASA are issuing a final rule to amend the Federal Acquisition Regulation (FAR) to implement regulatory changes made by the Small Business Administration (SBA), Small Business Mentor Protégé Programs, published on July 25, 2016 (81 FR 48557), regarding joint ventures and to clarify policy on 8(a) joint ventures. The regulatory changes provide industry with a new way to compete for small business or socioeconomic set-asides using a joint venture made up of a mentor and a protégé. The 8(a) joint venture clarification prevents confusion on an 8(a) joint venture's eligibility to compete for an 8(a) competitive procurement.

Timetable:

Action | Date | FR Cite
NPRM | 06/05/20 | 85 FR 34561
NPRM Comment Period End | 08/04/20 |
Final Rule | 09/00/21 |

Regulatory Flexibility Analysis Required: Yes.

Agency Contact: Malissa Jones, Procurement Analyst, DOD/GSA/NASA (FAR), 1800 F Street NW, Washington, DC 20405, Phone: 703 605-2815, Email: malissa.jones@gsa.gov.

RIN: 9000-AN59

268. Federal Acquisition Regulation (FAR); FAR Case 2018-020, Construction Contract Administration

Legal Authority: 40 U.S.C. 121(c); 10 U.S.C. ch. 137; 51 U.S.C. 20113

Abstract: DoD, GSA, and NASA are issuing a final rule to amend the Federal Acquisition Regulation (FAR) to implement section 855 of the NDAA for FY 2019 (Pub. L. 115-232). Section 855 requires, for solicitations for construction contracts anticipated to be awarded to a small business, notification to prospective offerors regarding agency policies or practices in complying with FAR requirements relating to the timely definitization of requests for equitable adjustment and agency past performance in definitizing such requests.

Timetable:

Action | Date | FR Cite
NPRM | 04/01/20 | 85 FR 18181
NPRM Comment Period End | 06/01/20 |
Final Rule | 07/00/21 |

Regulatory Flexibility Analysis Required: Yes.

Agency Contact: Dana L. Bowman, Procurement Analyst, General Services Administration, 1800 F Street NW, Washington, DC 20405, Phone: 202 803-3188, Email: dana.bowman@gsa.gov.

RIN: 9000-AN78

269. Federal Acquisition Regulation (FAR); FAR Case 2018-017, Prohibition on Certain Telecommunications and Video Surveillance Services or Equipment

Legal Authority: 40 U.S.C. 121(c); 10 U.S.C. ch. 137; 51 U.S.C. 20113

Abstract: DoD, GSA, and NASA amended the Federal Acquisition Regulation (FAR) to implement section 889 (a)(1)(A) of the National Defense Authorization Act (NDAA) for FY 19 (Pub. L. 115-232). Section 889(a)(1)(A) prohibits the Government from procuring covered telecommunications equipment and services from Huawei Technologies Company, ZTE Corporation, Hytera Communications Corporation, Hangzhou Technology Company, or Dahua Technology Company, to include any subsidiaries or affiliates. Provisions have been added to the FAR which require that an offeror represent at an entity level in SAM, and if applicable on an offer-by-offer basis, if the offeror will or will not provide any covered telecommunications equipment or services to the Government. If an offeror responds in an offer that it will provide covered telecommunications, the offeror will need to provide additional disclosures. This FAR rule is needed to protect U.S. networks against cyber activities conducted through Chinese Government-supported telecommunications equipment and services.

Timetable:

Action | Date | FR Cite
Interim Final Rule | 08/13/19 | 84 FR 40216
Interim Final Rule Comment Period End | 10/15/19 |
Interim Final Rule | 12/13/19 | 84 FR 68314
Interim Final Rule Effective | 12/13/19 |
Interim Final Rule Comment Period End | 02/11/20 |
Final Rule | 08/00/21 |

Regulatory Flexibility Analysis Required: Yes.

Agency Contact: Camara Francis, Procurement Analyst, DOD/GSA/NASA (FAR), 1800 F Street NW, Washington, DC 20405, Phone: 202 550-0935, Email: camara.francis@gsa.gov.

RIN: 9000-AN83

270. Federal Acquisition Regulation (FAR); FAR Case 2019-001, Analysis for Equipment Acquisitions

Legal Authority: 40 U.S.C. 121(c); 10 U.S.C. ch. 137; 51 U.S.C. 20113

Abstract: DoD, GSA, and NASA are amending the FAR by implementing section 555 of the Federal Aviation Administration (FAA) Reauthorization Act for FY 2018 (Pub. L. 115-254), which requires equipment to be acquired using the method of acquisition most advantageous to the Government based on a case-by-case analysis of costs and other factors. Section 555 requires the methods of acquisition to be compared in the analysis to include, at a minimum: (1) Purchase; (2) long-term lease or rental; (3) short-term lease or rental; (4) interagency acquisition; or, (5) acquisition agreements with a State or local government. Section 555 exempts certain acquisitions from this required analysis.

Timetable:

Action | Date | FR Cite
NPRM | 08/24/20 | 85 FR 52081
NPRM Comment Period End | 10/23/20 |
Final Rule | 06/00/21 |

Regulatory Flexibility Analysis Required: Yes.

Agency Contact: Michael O. Jackson, Procurement Analyst, DOD/GSA/NASA (FAR), 1800 F Street NW, Washington, DC 20405, Phone: 202 208-4949, Email: michaelo.jackson@gsa.gov.

RIN: 9000-AN84

271. Federal Acquisition Regulation (FAR); FAR Case 2019-003, Substantial Bundling and Consolidation

Legal Authority: 40 U.S.C. 121(c); 10 U.S.C. ch. 137; 51 U.S.C. 20113

Abstract: DoD, GSA, and NASA are amending the Federal Acquisition Regulation (FAR) to implement section 863 of the National Defense Authorization Acts (NDAA) for FY 2016 and the Small Business Administration (SBA) implementing regulations requiring public notification of an agency's determination to substantially bundle or consolidate contract requirements.

Timetable:

Action | Date | FR Cite
NPRM | 04/27/20 | 85 FR 23299
NPRM Comment Period End | 06/26/20 |
Final Rule | 05/00/21 |

Regulatory Flexibility Analysis Required: Yes.

Agency Contact: Dana Bowman, Procurement Analyst, DoD/GSA/NASA (FAR), DOD/GSA/NASA (FAR), 1800 F Street NW, Washington, DC 20405, Phone: 202 803-3188, Email: dana.bowman@gsa.gov.

RIN: 9000-AN86

272. Federal Acquisition Regulation (FAR); FAR Case 2019-004, Good Faith in Small Business Subcontracting

Legal Authority: 40 U.S.C. 121(c); 10 U.S.C. ch. 137; 51 U.S.C. 20113

Abstract: DoD, GSA, and NASA are issuing a final rule to amend the Federal Acquisition Regulation (FAR) to implement section 1821 of the National Defense Authorization Act (NDAA) for FY 2017 and the Small Business Administration regulatory changes relating to small business subcontracting plans. Per section 1821, the final rule provides examples of activities that would be considered a failure to make a good faith effort to comply with a small business subcontracting plan. The rule also requires prime contractors with commercial subcontracting plans to include indirect costs, with some exceptions, in their subcontracting plan goals.

Timetable:

Action | Date | FR Cite
NPRM | 06/03/20 | 85 FR 34155
NPRM Comment Period End | 08/03/20 |
Final Rule | 05/00/21 |

Regulatory Flexibility Analysis Required: Yes.

Agency Contact: Dana L. Bowman, Procurement Analyst, General Services Administration, 1800 F Street NW, Washington, DC 20405, Phone: 202 803-3188, Email: dana.bowman@gsa.gov.

RIN: 9000-AN87

273. Federal Acquisition Regulation (FAR); FAR Case 2019-009, Prohibition on Contracting With Entities Using Certain Telecommunications and Video Surveillance Services or Equipment

Legal Authority: 40 U.S.C. 121(c); 10 U.S.C. ch. 137; 51 U.S.C. 20113

Abstract: DoD, GSA, and NASA are amending the Federal Acquisition Regulation (FAR) to implement paragraph (a)(1)(B) of section 889 of the National Defense Authorization Act (NDAA) for FY 19 (Pub. L. 115-232). Beginning two years from the enacted date, paragraph (a)(1)(B) of section 889 prohibits the Government from entering into a contract or extending or renewing a contract with an entity that uses any equipment, system, or service that uses covered telecommunications equipment and services from Huawei Technologies Company, ZTE Corporation, Hytera Communications Corporation, Hangzhou Technology Company, or Dahua Technology Company, to include any subsidiaries or affiliates. This FAR rule is needed to protect U.S. networks against cyber activities conducted through Chinese Government-supported telecommunications equipment and services. Paragraph (a)(1)(A) of section 889 is being implemented separately through FAR Case 2018-017.

Timetable:

Action | Date | FR Cite
Interim Final Rule | 07/14/20 | 85 FR 42665
Interim Final Rule Effective | 08/13/20 |
Interim Final Rule | 08/27/20 | 85 FR 53126
Interim Final Rule Comment Period End | 09/14/20 |
Interim Final Rule Comment Period End | 10/26/20 |
Interim Final Rule Effective | 10/26/20 |
Final Rule | 08/00/21 |

Regulatory Flexibility Analysis Required: Yes.

Agency Contact: FAR Policy, DOD/GSA/NASA (FAR), 1800 F Street NW, Washington, DC 20405, Phone: 202 969-4075, Email: farpolicy@gsa.gov.

RIN: 9000-AN92

274. Federal Acquisition Regulation (FAR); FAR Case 2020-004, Application of the MPT to Certain Task and Delivery Orders

Legal Authority: 40 U.S.C. 121(c); 10 U.S.C. ch. 137; 51 U.S.C. 20113

Abstract: DoD, GSA, and NASA are amending the FAR by implementing section 826 of the NDAA for FY 2020 (Pub. L. 116-92) which increases the threshold for requiring fair opportunity on orders under multiple-award contracts from $3,500 to the micro-purchase threshold, unless an exception applies. This change applies the word-based threshold to ensure continued alignment with any future changes to the thresholds.

Timetable:

Action | Date | FR Cite
NPRM | 10/22/20 | 85 FR 67327
NPRM Comment Period End | 12/21/20 |
Final Rule | 05/00/21 |

Regulatory Flexibility Analysis Required: Yes.

Agency Contact: Michael O. Jackson, Procurement Analyst, DOD/GSA/NASA (FAR), 1800 F Street NW, Washington, DC 20405, Phone: 202 208-4949, Email: michaelo.jackson@gsa.gov.

RIN: 9000-AO04

275. Federal Acquisition Regulation (FAR); FAR Case 2020-011, Implementation of FASC Exclusion Orders

Legal Authority: 40 U.S.C. 121(c); 10 U.S.C. ch. 137; 51 U.S.C. 20113

Abstract: This rule will amend the Federal Acquisition Regulation (FAR) to address implementation of issued exclusion orders authorized by section 202 of the SECURE Technology Act (115 Pub. L. 390), which amends 41 U.S.C. 1323 by creating the Federal Acquisition Security Council (FASC) and authorizing the Secretary of Homeland Security, the Secretary of Defense, and the Director of National Intelligence to issue exclusion orders, upon the recommendation of the FASC. These orders are issued to protect national security by excluding certain covered products, services, or sources from the Federal supply chain.

Timetable:

Action | Date | FR Cite
Interim Final Rule | 08/00/21 |
Interim Final Rule Comment Period End | 10/00/21 |

Regulatory Flexibility Analysis Required: Yes.

Agency Contact: Kevin Funk, Supply Chain Risk Management Expert, DOD/GSA/NASA (FAR), 1800 F Street NW, Washington, DC 20405, Phone: 202 357-5805, Email: kevin.funk@gsa.gov.

RIN: 9000-AO13

276. Federal Acquisition Regulation (FAR); FAR Case 2020-012, Scope of Review by Procurement Center Representatives

Legal Authority: 40 U.S.C. 121(c); 10 U.S.C. ch. 137; 51 U.S.C. 20113

Abstract: The purpose of this FAR case is to implement section 1811 of the National Defense Authorization Act for Fiscal Year 2017 (15 U.S.C. 644(l)(9)(A)), as implemented by the Small Business Administration's final rule published November 29, 2019 (84 FR 65647). 15 U.S.C. 644(l)(9)(A) allows procurement center representatives to review solicitations without regard to whether the contract or order is set aside for small business, or reserved in the case of a multiple-award contract, or whether the solicitation would result in a bundled or consolidated contract or order.

Timetable:

Action | Date | FR Cite
Direct Final Rule | 06/00/21 |
Direct Final Rule Comment Period End | 08/00/21 |

Regulatory Flexibility Analysis Required: Yes.

Agency Contact: Malissa Jones, Procurement Analyst, DOD/GSA/NASA (FAR), 1800 F Street NW, Washington, DC 20405, Phone: 703 605-2815, Email: malissa.jones@gsa.gov.

RIN: 9000-AO16

277. • Federal Acquisition Regulation (FAR); FAR Case 2021-003, Update to Certain Online References in the Far

Legal Authority: 40 U.S.C. 121(c); 10 U.S.C. ch. 137; 51 U.S.C. 20113

Abstract: DoD, GSA, and NASA are issuing a final rule amending the Federal Acquisition Regulation (FAR) to replace FAR references to Federal Business Opportunities (FBO.gov) and Wage Determinations Online (WDOL.gov) with the System for Award Management (SAM.gov), because of their integration with and increased functionality of SAM.gov.

Timetable:

Action | Date | FR Cite
Final Rule | 05/00/21 |

Regulatory Flexibility Analysis Required: Yes.

Agency Contact: Curtis E. Glover Sr., Procurement Analyst, DOD/GSA/NASA (FAR), 1800 F Street NW, Washington, DC 20405, Phone: 202 501-1448, Email: curtis.glover@gsa.gov.

RIN: 9000-AO21

DEPARTMENT OF DEFENSE/GENERAL SERVICES ADMINISTRATION/NATIONAL AERONAUTICS AND SPACE ADMINISTRATION (FAR)

Completed Actions

278. Federal Acquisition Regulation (FAR); FAR Case 2011-001; Organizational Conflicts of Interest and Unequal Access to Information

Legal Authority: 40 U.S.C. 121(c); 10 U.S.C. ch 137; 51 U.S.C. 20113

Abstract: DoD, GSA, and NASA are withdrawing the proposed rule to amend the Federal Acquisition Regulation (FAR) titled: Organizational Conflicts of Interest. The decision not to proceed with a final rule has been made given the amount of time that has passed since publication of the proposed rule. Accordingly, this proposed rule is withdrawn and the FAR case is closed. Consideration of any future amendments to the FAR related to organizational conflicts of interest or unequal access to nonpublic information will be accomplished under a new FAR case.

DoD, GSA and NASA issued a proposed rule on April 26, 2011 to amend the FAR to include guidance that will help the Government identify and address circumstances in which a Government contractor has an organizational conflict of interest. This rule will also provide safeguards to protect against unequal access to information, which harms the competitive acquisition process.

Completed:

Reason | Date | FR Cite
Withdrawn | 03/19/21 | 86 FR 14863

Regulatory Flexibility Analysis Required: Yes.

Agency Contact: Mahruba Uddowla, Phone: 703 605-2868, Email: mahruba.uddowla@gsa.gov.

RIN: 9000-AL82

279. Federal Acquisition Regulation (FAR); FAR Case 2012-001; Performance of Inherently Governmental Functions and Critical Functions

Legal Authority: 40 U.S.C. 121(c); 10 U.S.C. ch 137; 51 U.S.C. 20113

Abstract: DoD, GSA, and NASA were proposing to revise the Federal Acquisition Regulation (FAR) to implement acquisition-related requirements of the Office of Federal Procurement Policy (OFPP) Policy Letter 11-01, entitled “Performance of Inherently Governmental and Critical Functions,” published September 12, 2011 (65 FR 56227), with a correction published February 13, 2012 (77 FR 7609). This rule is withdrawn, and the FAR case closed because further research and deliberation is required. Any future amendments to the FAR related to implementing performance of inherently governmental and critical functions will be accomplished under a new FAR case and RIN.

Completed:

Action | Date | FR Cite
Withdrawn | 03/03/21 |

Regulatory Flexibility Analysis Required: Yes.

Agency Contact: Michael O. Jackson, Phone: 202 208-4949, Email: michaelo.jackson@gsa.gov.

RIN: 9000-AM41

280. Federal Acquisition Regulation (FAR); FAR Case 2013-022; Extension of Limitations on Contractor Employee Personal Conflicts of Interest

Legal Authority: 40 U.S.C. 121(c); 10 U.S.C. ch 137; 51 U.S.C. 20113

Abstract: DoD, GSA, and NASA are withdrawing the proposed rule to amend the Federal Acquisition Regulation (FAR) titled: Extension of Limitations on Contractor Employee Personal Conflicts of Interest. The decision not to proceed with a final rule was made on the basis that the requirements of the underlying statute that directed consideration of a FAR change have been met. Accordingly, this proposed rule is withdrawn and the FAR case is closed.

DoD, GSA, and NASA issued a proposed rule on April 2, 2014 to amend the FAR to implement a section of the National Defense Authorization Act for Fiscal Year 2013 to extend the limitations on contractor employee personal conflicts of interest to apply to the performance of all functions that are closely associated with inherently governmental functions and contracts for personal services. This case is included in the FAR retrospective review of existing regulations under Executive Order 13563. Additional information is located in the FAR final plan (2016), available at: https://www.acquisition.gov/.

Completed:

Action | Date | FR Cite
Withdrawn | 03/19/21 | 86 FR 14862

Regulatory Flexibility Analysis Required: Yes.

Agency Contact: Mahruba Uddowla, Phone: 703 605-2868, Email: mahruba.uddowla@gsa.gov.

RIN: 9000-AM69

281. Federal Acquisition Regulation (FAR); FAR Case 2015-023; Federal Supply Schedule Order Level Material

Legal Authority: 40 U.S.C. 121(c); 10 U.S.C. ch. 137; 51 U.S.C. 50113

Abstract: DoD, GSA, and NASA were proposing to amend the Federal Acquisition Regulation (FAR) to clarify the authority to acquire order-level materials (OLMs) when placing a task order or establishing a blanket purchase agreement (BPAs) against a Federal Supply Schedule (FSS) contract. However, the FAR Council agreed that a better course was for GSA to issue a rule to provide clarity in the General Services Administration Acquisition Regulation. GSA issued a final rule (83 FR 3275) to clarify the authority to acquire OLMs when placing task or delivery orders placed against an FSS BPA or contract at 48 CFR 515, 538 and 552. In light of the GSA regulatory action, the FAR rule is now being withdrawn.

Completed:

Reason | Date | FR Cite
Withdrawn | 03/03/21 |

Regulatory Flexibility Analysis Required: Yes.

Agency Contact: Curtis E. Glover, Phone: 202 501-1448, Email: curtis.glover@gsa.gov.

RIN: 9000-AM95

282. Federal Acquisition Regulation (FAR); FAR Case 2017-003; Individual Sureties

Legal Authority: 40 U.S.C. 121(c); 10 U.S.C. 137; 51 U.S.C. 20113

Abstract: DoD, GSA, and NASA are issuing a final rule to amend the Federal Acquisition Regulation (FAR) to change the kinds of assets that individual sureties must use as security for their individual surety bonds. This change implements section 874 of the National Defense Authorization Act (NDAA) for FY 2016 (Pub. L. 114-92), codified at 31 U.S.C. 9310, Individual Sureties. Individual sureties will no longer be able to pledge real property, corporate stocks, corporate bonds, or irrevocable letters of credit. The requirements of 31 U.S.C. 9310 are intended to strengthen the assets pledged by individual sureties, thereby mitigating risk to the Government.

Completed:

Reason | Date | FR Cite
Final Rule | 01/14/21 | 86 FR 3682
Final Rule Effective | 02/16/21 |

Regulatory Flexibility Analysis Required: Yes.

Agency Contact: Zenaida Delgado, Phone: 202 969-7207, Email: zenaida.delgado@gsa.gov.

RIN: 9000-AN39

283. Federal Acquisition Regulation (FAR); FAR Case 2015-037, Definition of “Information Technology”

Legal Authority: 40 U.S.C. 121(c); 10 U.S.C. ch. 137; 51 U.S.C. 20113

Abstract: DoD, GSA, and NASA were proposing to revise the Federal Acquisition Regulation (FAR) to update the definition of “information technology,” to harmonize the definition with that in the Office of Management and Budget Memo, M-15-14, entitled Management Oversight of Federal Information Technology.” This rule is withdrawn, and the FAR case closed to allow for discussions to work through differences between the current FAR definition and the definition in the OMB memo M-15-14. Any future amendments to the FAR related to the definition of “information technology” will be accomplished under a new FAR case and RIN.

Completed:

Reason | Date | FR Cite
Withdrawn | 03/03/21 |

Regulatory Flexibility Analysis Required: Yes.

Agency Contact: Camara Francis, Phone: 202 550-0935, Email: camara.francis@gsa.gov.

RIN: 9000-AN48

284. Federal Acquisition Regulation (FAR); FAR Case 2017-018, Violation of Arms Control Treaties or Agreements With the United States

Legal Authority: 40 U.S.C. 121(c); 10 U.S.C. ch. 137; 51 U.S.C. 20113

Abstract: DoD, GSA, and NASA are issuing a final rule to amend the Federal Acquisition Regulation (FAR) to implement section 1290(c)(3) of the National Defense Authorization Act (NDAA) for FY 2017, which requires an offeror or any of its subsidiaries to certify that it does not engage in any activity that contributed to or is a significant factor in the determination that a country is not in full compliance with its obligations undertaken in all arms control, nonproliferation, and disarmament agreements or commitments in which the United States is a participating state.

Completed:

Reason | Date | FR Cite
Final Rule | 01/14/21 | 86 FR 3677
Final Rule Effective | 02/16/21 |

Regulatory Flexibility Analysis Required: Yes.

Agency Contact: Michael O. Jackson, Phone: 202 208-4949, Email: michaelo.jackson@gsa.gov.

RIN: 9000-AN57

285. Federal Acquisition Regulation (FAR); FAR Case 2018-002, Protecting Life in Global Health Assistance

Legal Authority: 40 U.S.C. 121(c); 10 U.S.C. 137; 51 U.S.C. 20113

Abstract: DoD, GSA, and NASA are withdrawing the proposed rule to amend the Federal Acquisition Regulation (FAR) titled: Protecting Life in Global Health Assistance. The decision not to proceed with a final rule has been made because the Presidential Memorandum regarding The Mexico City Policy,” dated January 23, 2017, has been revoked by the Memorandum on Protecting Women's Health at Home and Abroad issued by President Biden on January 28, 2021. Accordingly, this proposed rule is withdrawn and the FAR case is closed.

DoD, GSA, and NASA issued a proposed rule on September 14, 2020 to amend the FAR to implement Presidential Memorandum, “The Mexico City Policy,” issued on January 13, 2017, in accordance with the Department of State's implementation plan dated May 9, 2017. This rule would extend requirements of the memorandum and plans to new funding agreements for global health assistance furnished by all Federal departments or agencies. This expanded policy would cover global health assistance to include funding for international health programs, such as those for HIV/AIDS, maternal and child health, malaria, global health security, and certain family planning and reproductive health.

Completed:

Reason | Date | FR Cite
Withdrawn | 03/19/21 | 86 FR 14863

Regulatory Flexibility Analysis Required: Yes.

Agency Contact: FAR Policy, Phone: 202 969-4075, Email: farpolicy@gsa.gov.

RIN: 9000-AN62

286. Federal Acquisition Regulation (FAR); FAR Case 2018-016, Lowest Price Technically Acceptable Source Selection Process

Legal Authority: 40 U.S.C. 121(c); 10 U.S.C. ch. 137; 51 U.S.C. 20113

Abstract: DoD, GSA, and NASA are issuing a final rule to amend the Federal Acquisition Regulation (FAR) to implement section 880 of the John S. McCain National Defense Authorization Act (NDAA) for Fiscal Year (FY) 2019 to avoid using lowest price technically acceptable source selection criteria in circumstances that would deny the Government the benefits of cost and technical tradeoffs in the source selection process.

Completed:

Reason | Date | FR Cite
Final Rule | 01/14/21 | 86 FR 3679
Final Rule Effective | 02/16/21 |

Regulatory Flexibility Analysis Required: Yes.

Agency Contact: Michael O. Jackson, Phone: 202 208-4949, Email: michaelo.jackson@gsa.gov.

RIN: 9000-AN75

287. Federal Acquisition Regulation (FAR); FAR Case 2018-021, Reserve Officer Training Corps and Military Recruiting on Campus

Legal Authority: 40 U.S.C. 121(c); 10 U.S.C. ch. 137; 51 U.S.C. 20113

Abstract: DoD, GSA and NASA are issuing a final rule to amend the Federal Acquisition Regulation (FAR) to implement the requirements at 10 U.S.C. 983, which prohibits the award of certain Federal contracts or grants to institutions of higher education that prohibit Senior Reserve Officer Training Corps units or military recruiting on campus.

Completed:

Reason | Date | FR Cite
Final Rule | 10/23/20 | 85 FR 67619
Final Rule Effective | 11/23/20 |

Regulatory Flexibility Analysis Required: Yes.

Agency Contact: Zenaida Delgado, Phone: 202 969-7207, Email: zenaida.delgado@gsa.gov.

RIN: 9000-AN79

288. Federal Acquisition Regulation (FAR); FAR Case 2018-023, Taxes-Foreign Contracts in Afghanistan

Legal Authority: 40 U.S.C. 121(c); 10 U.S.C. ch. 137; 51 U.S.C. 20113

Abstract: DoD, GSA, and NASA are issuing a final rule to amend the Federal Acquisition Regulation (FAR) to implement the provisions on taxes, duties, and fees contained in the Security and Defense Cooperation Agreement (dated 2014) and the North Atlantic Treaty Organization Status of Forces Agreement (dated 2014) with the Islamic Republic of Afghanistan. Both Agreements exempt the United States Government, and its contractors and subcontractors (other than those who are Afghan legal entities or residents), from paying any tax or similar charge assessed on activities associated with contracts performed within Afghanistan. The Agreements also exempt the acquisition, importation, exportation, reexportation, transportation, and use of supplies and services in Afghanistan, by or on behalf of the United States Government, from any taxes, customs, duties, fees, or similar charges in Afghanistan.

Completed:

Reason | Date | FR Cite
Final Rule | 10/23/20 | 85 FR 67623
Final Rule Effective | 11/23/20 |

Regulatory Flexibility Analysis Required: Yes.

Agency Contact: Kevin Funk, Phone: 202 357-5805, Email: kevin.funk@gsa.gov.

RIN: 9000-AN81

289. Federal Acquisition Regulation (FAR); FAR Case 2019-002, Recreational Services on Federal Lands

Legal Authority: 40 U.S.C. 121(c); 10 U.S.C. ch. 137; 51 U.S.C. 20113

Abstract: DoD, GSA, and NASA are issuing a final rule to amend the Federal Acquisition Regulation (FAR) to exempt contracts for seasonal recreational services and seasonal recreational equipment rental on Federal lands from the Executive Order 13658 minimum wage requirements. This rule implements Executive Order 13838 that was issued on May 25, 2018, and associated Department of Labor final rule published on September 26, 2018. In accordance with Executive Order 13838, this rule will not limit Executive Order 13658's coverage of lodging and food services associated with seasonal recreational services, even when seasonal recreational services or seasonal recreational equipment rental are also provided under the same contract.

Completed:

Reason | Date | FR Cite
Final Rule | 10/23/20 | 85 FR 67626
Final Rule Effective | 11/23/20 |

Regulatory Flexibility Analysis Required: Yes.

Agency Contact: Kevin Funk, Phone: 202 357-5805, Email: kevin.funk@gsa.gov.

RIN: 9000-AN85

290. Federal Acquisition Regulation (FAR); FAR Case 2019-010, Efficient Federal Operations

Legal Authority: 40 U.S.C. 121(c); 10 U.S.C. ch. 137; 51 U.S.C. 20113

Abstract: DoD, GSA, and NASA were proposing to revise the Federal Acquisition Regulation (FAR) to implement Executive Order 13834, “Efficient Federal Operations,” which directed Federal agencies to comply with statutory requirements related to energy and environmental performance in a manner that increases efficiency, maximizes performance, eliminates unnecessary use of resources, and protects the environment.

However, Executive Order 13834 was partially revoked by Executive Order 13990, Protecting Public Health and the Environment and Restoring Science To Tackle the Climate Crisis. The sections of Executive Order 13834 that remain in effect have no impact on the FAR; therefore, this rule is withdrawn and the FAR case is closed. Any future amendments to the FAR related to environmental issues or sustainable acquisition will be accomplished under a new FAR case and RIN.

Completed:

Reason | Date | FR Cite
Withdrawn | 03/03/21 |

Regulatory Flexibility Analysis Required: Yes.

Agency Contact: Jennifer Hawes, Phone: 202 969-7386, Email: jennifer.hawes@gsa.gov.

RIN: 9000-AN94

291. Federal Acquisition Regulation (FAR); FAR Case 2019-016, Maximizing Use of American-Made Goods, Products and Materials

Legal Authority: 40 U.S.C. 121(c); 10 U.S.C. ch. 137; 51 U.S.C. 20113

Abstract: DoD, GSA, and NASA are proposing to amend the Federal Acquisition Regulation (FAR) to implement Executive Order (E.O.) 13881, Maximizing Use of American-Made Goods, Products, and Materials, which would provide that materials shall be considered to be of foreign origin if: (A) For iron and steel end products, the cost of foreign iron and steel used in such iron and steel end products constitutes 5 percent or more of the cost of all the products used in such iron and steel end products; or (B) for all other end products, the cost of the foreign products used in such end products constitutes 45 percent or more of the cost of all the components. In addition, the Executive order provides that in determining price reasonableness or public interest, the evaluation factors of 20 percent (for other than small businesses), or 30 percent (for small businesses) shall be applied to offers of materials of foreign origin.

Completed:

Reason | Date | FR Cite
Final Rule | 01/19/21 | 86 FR 6180
Final Rule Effective | 01/19/21 |
Final Rule Correction | 02/05/21 | 86 FR 8308
Final Rule Effective | 02/05/21 |

Regulatory Flexibility Analysis Required: Yes.

Agency Contact: Zenaida Delgado, Phone: 202 969-7207, Email: zenaida.delgado@gsa.gov.

RIN: 9000-AN99

292. Federal Acquisition Regulation (FAR); FAR Case 2020-006, Documentation of Market Research

Legal Authority: 40 U.S.C. 121(c); 10 U.S.C. ch. 137; 51 U.S.C. 20113

Abstract: DoD, GSA, and NASA are issuing a final rule amending the Federal Acquisition Regulation (FAR) to implement a section of the National Defense Authorization Act for Fiscal Year 2020 that requires the head of the agency to document the results of market research in a manner appropriate to the size and complexity of the acquisition.

Completed:

Reason | Date | FR Cite
Final Rule | 10/23/20 | 85 FR 67623
Final Rule Effective | 11/23/20 |

Regulatory Flexibility Analysis Required: Yes.

Agency Contact: Camara Francis, Phone: 202 550-0935, Email: camara.francis@gsa.gov.

RIN: 9000-AO09

293. • Federal Acquisition Regulation (FAR); FAR Case 2021-002, Increased Efficiencies With Regard to In-Person Business, Mail, and Signatures

Legal Authority: 40 U.S.C. 121(c); 10 U.S.C. ch. 137; 51 U.S.C. 20113

Abstract: FAR case 2021-002, Increased Efficiencies with Regard to In-Person Business, Mail, and Signatures, will be addressed in FAR case 2021-001, Increased Efficiencies with Regard to Certified Mail, In-person Business, Mail, Notarization, Original Documents, Seals, and Signatures.

Timetable:

Action | Date | FR Cite
Merged With FAR Case 2021-001, Rin 9000-AO19 | 03/10/21 |

Regulatory Flexibility Analysis Required: Yes.

Agency Contact: Zenaida Delgado, Procurement Analyst, DOD/GSA/NASA (FAR), 1800 F Street NW, Washington, DC 20405, Phone: 202 969-7207, Email: zenaida.delgado@gsa.gov.

RIN: 9000-AO20

[FR Doc. 2021-15101 Filed 7-29-21; 8:45 am]

BILLING CODE 6820-EP-P